DEPARTMENT OF TRANSPORTATION

Federal Aviation Administration

14 CFR Part 39

[Docket No. FAA-2021-0506; Project Identifier MCAI-2021-00200-T]

RIN 2120-AA64

Airworthiness Directives; Airbus SAS Airplanes

AGENCY: Federal Aviation Administration (FAA), DOT.

ACTION: Supplemental notice of proposed rulemaking (SNPRM).

SUMMARY: The FAA is revising a notice of proposed rulemaking (NPRM) to supersede Airworthiness Directive (AD) 2013-25-11; this NPRM would apply to all Airbus SAS Model A318-111, and -112 airplanes; Model A319-111, -112, -113, -114, -115, -131, -132, and -133 airplanes; Model A320-211, -212, -214, -216, -231, -232, and -233 airplanes; and Model A321-111, -112, -131, -211, -212, -213, -231, and -232 airplanes. This action revises the NPRM by establishing a different compliance time for the initial inspection on certain airplane configurations. The FAA is proposing this AD to address the unsafe condition on these products. Since these actions would impose an additional burden over those in the NPRM, the FAA is reopening the comment period to allow the public the chance to comment on these changes.

DATES: The FAA must receive comments on this SNPRM by January 3, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA service information identified in this SNPRM, contact EASA, Konrad-Adenauer-Ufer 3, 50668 Cologne, Germany; telephone +49 221 8999 000; email ADs@easa.europa.eu; internet www.easa.europa.eu. You may find this material on the EASA website at https://ad.easa.europa.eu. For Airbus service information identified in this SNPRM, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this referenced service information at the FAA, Airworthiness Products Section, Operational Safety Branch, 2200 South 216th St. Des Moines, WA. For information on the availability of this material at the FAA, call 206-231-3195.

Examining the AD Docket

You may examine the AD docket on the internet at https://www.regulations.gov by searching for and locating Docket No. FAA-2021-0506; or in person at Docket Operations between 9 a.m. and 5 p.m., Monday through Friday, except Federal holidays. The AD docket contains this SNPRM, any comments received, and other information. The street address for Docket Operations is listed above.

FOR FURTHER INFORMATION CONTACT: Sanjay Ralhan, Aerospace Engineer, Large Aircraft Section, International Validation Branch, FAA, 2200 South 216th St., Des Moines, WA 98198; telephone and fax 206-231-3223; email sanjay.ralhan@faa.gov.

SUPPLEMENTARY INFORMATION:

Comments Invited

The FAA invites you to send any written relevant data, views, or arguments about this proposal. Send your comments to an address listed under ADDRESSES. Include “Docket No. FAA-2021-0506; Project Identifier MCAI-2021-00200-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this NPRM. Submissions containing CBI should be sent to Sanjay Ralhan, Aerospace Engineer, Large Aircraft Section, International Validation Branch, FAA, 2200 South 216th St., Des Moines, WA 98198; telephone and fax 206-231-3223; email sanjay.ralhan@faa.gov. Any commentary that the FAA receives which is not specifically designated as CBI will be placed in the public docket for this rulemaking.

Background

The FAA issued AD 2013-25-11, Amendment 39-17707 (78 FR 78705, December 27, 2013) (AD 2013-25-11). AD 2013-25-11 requires actions to address an unsafe condition on all Airbus SAS Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes. AD 2013-25-11 requires repetitive inspections of the 80VU rack lower lateral fittings, upper fittings, and shelves for damage, repetitive inspections of the 80VU rack lower central support for cracking, and corrective action if necessary. AD 2013-25-11 also specifies optional terminating action for the repetitive inspections.

The FAA issued an NPRM to amend 14 CFR part 39 by adding an AD to supersede AD 2013-25-11 that would apply to all Airbus SAS Model A318-111, and -112, airplanes; Model A319-111, -112, -113, -114, -115, -131, -132, and -133 airplanes; Model A320-211, -212, -214, -216. -231, -232, and -233 airplanes; and Model A321-111, -112, -131, -211, -212, -213, -231, and -232 airplanes. The NPRM published in the Federal Register on June 22, 2021 (86 FR 32653) (the NPRM). The NPRM was prompted by reports of damaged lower lateral fittings of the 80VU rack, and reports of new damage on airplanes on which certain optional service information had been accomplished. The NPRM proposed to expand the applicability, remove the optional terminating action, and require new repetitive inspections.

Actions Since the NPRM Was Issued

Since the FAA issued the NPRM, new damage occurrences have been reported, and a different compliance time has been determined for certain affected parts, depending on airplane configuration.

The European Union Aviation Safety Agency (EASA), which is the Technical Agent for the Member States of the European Union, has issued EASA AD 2021-0172, dated July 20, 2021 (EASA AD 2021-0172) (also referred to after this as the Mandatory Continuing Airworthiness Information, or the MCAI), to correct an unsafe condition for all Airbus SAS Model A318-111, A318-112, A319-111, A319-112, A319-113, A319-114, A319-115, A319-131, A319-132, A319-133, A320-211, A320-212, A320-214, A320-215, A320-216, A320-231, A320-232, A320-233, A321-111, A321-112, A321-131, A321-211, A321-212, A321-213, A321-231 and A321-232 airplanes. Model A320-215 airplanes are not certificated by the FAA and are not included on the U.S. type certificate data sheet; this proposed AD therefore does not include those airplanes in the applicability. EASA AD 2021-0172 supersedes EASA AD 2021-0045, dated February 16, 2021 (EASA AD 2021-0045). The FAA NPRM corresponds to EASA AD 2021-0045. You may examine the MCAI in the AD docket on the internet at https://www.regulations.gov by searching for and locating Docket No. FAA-2021-0506.

This proposed AD was prompted by reports of damaged lower lateral fittings of the 80VU rack, and reports of new damage on airplanes on which certain optional service information had been accomplished. The FAA is proposing this AD to address damage or cracking of the 80VU fittings and supports, which could lead to possible disconnection of the cable harnesses to one or more computers, and if occurring during a critical phase of flight, could result in reduced control of the airplane. See the MCAI for additional background information.

Related Service Information Under 1 CFR Part 51

EASA AD 2021-0172 describes procedures for repetitive special detailed inspections of the 80VU rack lower lateral fittings, lower central support, upper fittings, central post, and shelves attachments for discrepancies (including broken fittings, missing bolts, an electronics rack FIN 80VU that is in contact with structure, any bush that has migrated, burred material, and cracks), and corrective action if necessary. Corrective actions include modification, repair, and replacement. EASA AD 2021-0172 also describes procedures for reporting inspection results to Airbus.

The FAA has also reviewed Airbus Service Bulletin A320-25-1BKJ, Revision 02, dated April 9, 2020. Airbus Service Bulletin A320-25-1BKJ, Revision 02, dated April 9, 2020, describes inspections of the 80VU rack lower lateral fittings, lower central support, upper fittings, central post, and shelves attachments for discrepancies and corrective action.

The FAA has also reviewed Airbus Technical Adaptation 80827186/024/2020, Issue 1, dated September 18, 2020, which addresses discrepancies found in Airbus Service Bulletin A320-25-1BKJ, Revision 02, dated April 9, 2020.

This service information is reasonably available because the interested parties have access to it through their normal course of business or by the means identified in the ADDRESSES section.

Comments

The FAA gave the public the opportunity to participate in developing this rule. The following presents the comments received on the NPRM and the FAA's response to those comments. Air Line Pilots Association (ALPA), International, supported the NPRM.

Request To Incorporate New EASA AD

American Airlines, Delta Air Lines, and United Airlines requested that the FAA incorporate new information into this proposed AD, because of the publication of EASA AD 2021-0172, which superseded EASA AD 2021-0045.

The FAA agrees to incorporate the new information by issuing this SNPRM and has revised this AD to refer to EASA AD 2021-0172 as the appropriate source of service information to accomplish the required actions.

Request To Allow Technical Adaptation (TA)

United Airlines requested that the FAA allow the use of TA 80827186/024/2020, Issue 1, dated September 18, 2020, to address inspections and corrective actions done using Airbus Service Bulletin A320-25-1BKJ, Revision 02, dated April 9, 2020. United Airlines stated that Airbus has issued TA 80827186/024/2020, Issue 1, dated September 18, 2020, to address discrepancies in Airbus Service Bulletin A320-25-1BKJ, Revision 02, dated April 9, 2020, which is specified in EASA AD 2021-0045.

The FAA agrees with the request for the reasons provided by the commenter. The FAA has added paragraph (i) to the proposed AD to specify that Airbus Service Bulletin A320-25-1BKJ, Revision 02, dated April 9, 2020, with corrections referenced in the Airbus Technical Adaptation 80827186/024/2020, Issue 1, dated September 18, 2020, is an acceptable method of compliance for the inspections and corrective actions specified in paragraphs (1), (2), and (3) of EASA AD 2021-0172.

Request To Use Drawing

United Airlines requested that the FAA allow the use of Airbus Drawing (DWG) D53924082. United Airlines stated that in Airbus Service Bulletin A320-25-1BKJ, Revision 02, dated April 9, 2020, Config. 004, Figure ICN-A320-A-25XX1BKJ-A-FAPE3-00EOV-A-001-01, Sheet 2 of 2, detail D shows a fitting installation with a four fasteners configuration. United Airlines stated Airbus Drawing D53924082 indicates the fitting installation must have six fasteners configuration. United Airlines stated that Airbus confirmed it will update the service bulletin to show the assembly with a six fastener configuration.

The FAA acknowledges the commenter's request and notes the commenter did not submit the referenced drawing. However, the FAA has determined the Accomplishment Instructions steps in Airbus Service Bulletin A320-25-1BKJ, Revision 02, dated April 9, 2020, are correct for most airplanes. United Airlines is one operator in Config. 004 and it has a unique configuration. The FAA does not consider it appropriate to include various provisions in an AD applicable only to an operator's unique configuration of affected airplanes. If an operator with an affected airplane cannot accomplish the required actions specified in the service information, or prefers to use different service information that is specific to their design, an alternative method of compliance (AMOC) can be requested in accordance with the provisions specified in paragraph (j)(1) of this proposed AD. The FAA has confirmed with EASA that the solution for United Airlines' configuration will be included in the next revision of the service information expected to be published in the fourth quarter of 2021; therefore, once published, based on incorporation of the Ref. Publications: Section of EASA AD 2021-0172 in this proposed AD, United Airlines may use that service information without the need for an AMOC. The FAA has not changed this proposed AD in this regard.

FAA's Determination

This product has been approved by the aviation authority of another country, and is approved for operation in the United States. Pursuant to the FAA's bilateral agreement with the State of Design Authority, the FAA has been notified of the unsafe condition described in the MCAI and service information referenced above. The FAA is proposing this AD because the FAA evaluated all pertinent information and determined an unsafe condition exists and is likely to exist or develop on other products of the same type design.

Certain changes described above expand the scope of the NPRM. As a result, the FAA has determined that it is necessary to reopen the comment period to provide additional opportunity for the public to comment on this SNPRM.

Proposed Requirements of This SNPRM

This proposed AD requires accomplishing the actions specified in the service information described previously, except for any differences identified as exceptions in the regulatory text of this proposed AD.

Costs of Compliance

The FAA estimates that this proposed AD affects 1,528 airplanes of U.S. registry. The FAA estimates the following costs to comply with this proposed AD:

Estimated Costs for Required Actions *
Action | Labor cost | Parts cost | Cost per product | Cost on U.S. operators
New proposed actions | Up to 8 work-hours × $85 per hour = Up to $680 | $0 | Up to $680 | Up to $1,039,040.
* Table does not include estimated costs for reporting.

The FAA estimates that it would take about 1 work-hour per product to comply with the proposed reporting requirement in this proposed AD. The average labor rate is $85 per hour. Based on these figures, the FAA estimates the cost of reporting the inspection results on U.S. operators to be $129,880, or $85 per product.

The FAA estimates the following costs to do any necessary on-condition actions that would be required based on the results of any required actions. The FAA has no way of determining the number of aircraft that might need these on-condition actions:

Estimated Costs of On-Condition Actions
Action | Labor cost | Parts cost | Cost per product
Repair | 122 work-hours × $85 per hour = $10,370 | $4,150 | $14,520.
Replacement | Up to 189 work-hours × $85 per hour = Up to $16,065 | Up to $6,928 | Up to $22,993.
Modification | 189 work-hours × $85 per hour = $16,065 | $7,407 | $23,472.

According to the manufacturer, some or all of the costs of this proposed AD may be covered under warranty, thereby reducing the cost impact on affected operators. The FAA does not control warranty coverage for affected operators. As a result, the FAA has included all known costs in the cost estimate.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2013-25-11, Amendment 39-17707 (78 FR 78705, December 27, 2013), and

b. Adding the following new AD:

Airbus SAS: Docket No. FAA-2021-0506; Project Identifier MCAI-2021-00200-T.

(a) Comments Due Date

The FAA must receive comments on this airworthiness directive (AD) by January 3, 2022.

(b) Affected ADs

This AD replaces AD 2013-25-11, Amendment 39-17707 (78 FR 78705, December 27, 2013) (AD 2013-25-11).

(c) Applicability

This AD applies to all Airbus SAS airplanes, certificated in any category, identified in paragraphs (c)(1) through (4) of this AD.

(1) Model A318-111 and -112 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 25, Equipment/furnishings.

(e) Reason

This AD was prompted by reports of damaged lower lateral fittings of the 80VU rack, and reports of new damage on airplanes on which certain optional service information had been accomplished. The FAA is issuing this AD to address damage or cracking of the 80VU fittings and supports, which could lead to possible disconnection of the cable harnesses to one or more computers, and if occurring during a critical phase of flight, could result in reduced control of the airplane.

(f) Compliance

Comply with this AD within the compliance times specified, unless already done.

(g) Requirements

Except as specified in paragraph (h) of this AD: Comply with all required actions and compliance times specified in, and in accordance with, European Union Aviation Safety Agency (EASA) AD 2021-0172, dated July 20, 2021 (EASA AD 2021-0172).

(h) Exceptions to EASA AD 2021-0172

(1) Where EASA AD 2021-0172 refers to its effective date, this AD requires using the effective date of this AD.

(2) The remarks section of EASA AD 2021-0172 does not apply to this AD.

(3) Where paragraph (3) of EASA AD 2021-0172 specifies “any discrepancy,” for this AD “any discrepancy” includes broken fittings, missing bolts, an electronics rack FIN 80VU that is in contact with structure, any bush that has migrated, burred material, and cracks.

(i) Method of Compliance for Paragraphs (1), (2), and (3) of EASA AD 2021-0172

Accomplishing inspections and correctives actions in accordance with the Accomplishment Instruction of Airbus Service Bulletin A320-25-1BKJ, Revision 02, dated April 9, 2020, with corrections referenced in the Airbus Technical Adaptation 80827186/024/2020, Issue 1, dated September 18, 2020, is an acceptable method of compliance for the inspections and corrective actions specified in paragraphs (1), (2), and (3) of EASA AD 2021-0172.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k)(2) of this AD. Information may be emailed to: 9-AVS-AIR-730-AMOC@faa.gov.

(i) Before using any approved AMOC, notify your appropriate principal inspector, or lacking a principal inspector, the manager of the responsible Flight Standards Office.

(ii) AMOCs approved previously for AD 2013-25-11 are approved as AMOCs for the corresponding provisions of EASA AD 2021-0172 that are required by paragraph (g) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2021-0172 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA AD 2021-0172, contact EASA, Konrad-Adenauer-Ufer 3, 50668 Cologne, Germany; telephone +49 221 8999 000; email ADs@easa.europa.eu; internet www.easa.europa.eu. You may find this EASA AD on the EASA website at https://ad.easa.europa.eu. For Airbus service information, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this material at the FAA, Airworthiness Products Section, Operational Safety Branch, 2200 South 216th St. Des Moines, WA. For information on the availability of this material at the FAA, call 206-231-3195. The EASA material may be found in the AD docket on the internet at https://www.regulations.gov by searching for and locating Docket No. FAA-2021-0506.

(2) For more information about this AD, contact Sanjay Ralhan, Aerospace Engineer, Large Aircraft Section, International Validation Branch, FAA, 2200 South 216th St., Des Moines, WA 98198; telephone and fax 206-231-3223; email sanjay.ralhan@faa.gov.

Issued on November 8, 2021.
Lance T. Gant,
Director, Compliance & Airworthiness Division, Aircraft Certification Service.

[FR Doc. 2021-24791 Filed 11-16-21; 8:45 am]

BILLING CODE 4910-13-P